DEPARTMENT OF STATE

[Public Notice 4171]

Notice of Receipt of Application for a Presidential Permit for Pipeline Facilities To Be Constructed and Maintained on the Border of the United States

AGENCY: Department of State, Office of International Energy and Commodities Policy.

ACTION: Notice.

Notice is hereby given that the Department of State has received an application from PMI Services North America, Inc. (PMI) for a Presidential permit, pursuant to Executive Order 11423 of August 16, 1968, as amended by Executive Order 12847 of May 17, 1993, authorizing the construction, connection, operation, and maintenance at the U.S.-Mexican border in the vicinity of Brownsville, Texas of a liquid pipeline capable of carrying refined petroleum products, including diesel, motor gasoline, jet fuel and liquefied petroleum gas, and related facilities.

PMI is a corporation organized and existing under the laws of the State of Delaware and with its principal office located in Houston, Texas. The proposed new 10-inch diameter pipeline would originate at an existing Transmontaigne Product Services, Inc. (TPSI) storage and distribution terminal at the Port of Brownsville, Texas and cover approximately 27 miles, crossing under the Rio Grande River and terminating at a currently existing PEMEX pipeline in Curva, Texas, Tamaulipas, Mexico. It is anticipated that initial deliveries of diesel to the United States will be approximately 10,000 barrels per day in Brownsville, but the pipeline capacity would be approximately 100,000 barrels of liquid petroleum product per day in either direction.

As required by E.O. 11423, the Department of State is circulating this application to concerned federal agencies for comment.

DATES: Interested parties are invited to submit, in duplicate, comments relative to this proposal on or before November 22, 2002, to Pedro Erviti, Office of International Energy and Commodities Policy, Department of State, Washington, DC 20520. The application and related documents that are part of the record to be considered by the Department of State in connection with this application are available for inspection in the Office of International Energy and Commodities Policy during normal business hours.

FOR FURTHER INFORMATION CONTACT: Pedro Erviti, Office of International Energy and Commodities Policy (EB/ESC/IEC/EPC), Department of State, Washington, DC 20520; or by telephone at (202) 647-1291; or by fax at (202) 647-4037.

Dated: October 17, 2002.
Matthew T. McManus,
Acting Director, Office of International Energy and Commodities Policy, Department of State.

[FR Doc. 02-27009 Filed 10-22-02; 8:45 am]

BILLING CODE 4710-07-P